DEPARTMENT OF LABOR

Bureau of Labor Statistics

Federal Economic Statistics Advisory Committee; Notice of Open Meeting and Agenda

The thirteenth meeting of the Federal Economic Statistics Advisory Committee will be held on December 14, 2007 in the Postal Square Building, 2 Massachusetts Avenue, NE., Washington, DC.

The Federal Economic Statistics Advisory Committee is a technical committee composed of economists, statisticians, and behavioral scientists who are recognized for their attainments and objectivity in their respective fields. Committee members are called upon to analyze issues involved in producing Federal economic statistics and recommend practices that will lead to optimum efficiency, effectiveness, and cooperation among the Department of Labor, Bureau of Labor Statistics and the Department of Commerce, Bureau of Economic Analysis and Bureau of the Census.

The meeting will be held in Meeting Rooms 1 and 2 of the Postal Square Building Conference Center. The schedule and agenda for the meeting are as follows:

9 a.m.—Opening session

9:15 a.m.—Agency updates and discussion of statistical priorities

11 p.m.—Measures of Intangible Capital: Labor Composition

1 p.m.—Health Care Statistics

2:45 p.m.—Nonresponse bias

4:45 p.m.—Conclude (approximate time)

The meeting is open to the public. Any questions concerning the meeting should be directed to Margaret Johnson, Federal Economic Statistics Advisory Committee, on Area Code (202) 691-5600. Individuals with disabilities, who need special accommodations, should contact Ms. Johnson at least two days prior to the meeting date.

Signed at Washington, DC. the 9th day of November 2007.
Philip L. Rones,
Deputy Commissioner, Bureau of Labor Statistics.

[FR Doc. E7-22585 Filed 11-19-07; 8:45 am]

BILLING CODE 4510-24-P